DEPARTMENT OF TRANSPORTATION

Federal Aviation Administration

14 CFR Part 71

[Docket No. FAA-2003-16029; Airspace Docket No. 03-ANM-08]

Amendment to Class E Airspace; La Junta, CO

AGENCY: Federal Aviation Administration (FAA), DOT.

ACTION: Final rule.

SUMMARY: This final rule modifies Class E airspace at La Junta, CO. Additional controlled airspace is required for the new Area Navigation (RNAV) Global Position System (GPS) Standard Instrument Approach Procedures (SIAPs) recently developed. This additional Class E airspace will promote the safety of instrument flight rules (IFR) aircraft executing these new procedures when transitioning to/from the en route environment.

EFFECTIVE DATE: 0901 UTC, October 28, 2004.

FOR FURTHER INFORMATION CONTACT: Ed Hawseker; Air Traffic Division, Federal Aviation Administration, 1601 Lind Avenue SW., Renton, Washington 98055-4056; telephone (425) 227-2527

SUPPLEMENTARY INFORMATION:

History

On November 6, 2003, the FAA issued a notice of proposed rule making (NPRM) in which it proposed to amend Federal Aviation Regulation 14 CFR Part 71 by modifying Class E airspace extending upward from 700 feet or more above the surface of the earth at La Junta, CO (68 FR page 62760). The NPRM proposed to increase the Class E airspace to accommodate IFR aircraft executing the new RNAV GPS SIAPs and IFR aircraft transitioning to/from the en route environment.

Interested parties were invited to participate in this rule making proceeding by submitting written comments on the proposal to the FAA. No comments were received. Class E airspace areas extending upward from 700 feet or more above the surface of the earth are published in paragraph 6005 of FAA Order 7400.9L dated September 02, 2003, and effective September 16, 2003, which is incorporated by reference in 14 CFR Part 71.1. The Class E airspace designations listed in this document will be published subsequently in that Order.

The Rule

This amendment to 14 CFR Part 71 will modify Class E airspace at La Junta, CO to accommodate IFR aircraft executing newly developed RNAV GPS SIAPs at La Junta Municipal Airport. Additional Class E airspace is necessary to provide adequate controlled airspace for the safety of IFR aircraft executing these new RNAV GPS SIAPs during the transition to/from the en route environment.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration amends 14 CFR Part 71 as follows:

PART 71—DESIGNATION OF CLASS A, CLASS B, CLASS C, CLASS D, AND CLASS E AIRSPACE AREAS; AIRWAYS; ROUTES; AND REPORTING POINTS

1. The authority citation for 14 CFR Part 71 continues to areas as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9L, Airspace Designations and Reporting Points, dated September 2, 2003, and effective September 16, 2003, is amended as follows:

Paragraph 6005 Class E airspace areas extending upward from 700 feet or more above the surface of the earth.

* * * * *

ANM CO E5 La Junta, CO (Revised)

La Junta Municipal Airport, La Junta, CO

[Lat. 37°15′36″ N., Long 104°20′24″ W.]

That airspace extending upward from 700 feet above the surface of the earth bound by a line beginning at lat. 38°12′36″ n., long. 103°58′00″ W.; to lat. 38°10′24″ N., long. 103°22′24″ W.; to lat. 37°54′12″ N., long. 103°22′42″ W.; to lat. 37°54′05″ N., long. 103°58′25″ W.; thence to the point of origin; excluding that airspace within federal airways.

* * * * *

Issued in Seattle, Washington, on July 21, 2004.
Danial T. Mawhorter,
Acting Area Director, Western En Route and Oceanic Operations.

[FR Doc. 04-17829 Filed 8-4-04; 8:45 am]

BILLING CODE 4910-13-M